DEPARTMENT OF DEFENSE

Department of the Air Force

Proposed Collection; Common Request

AGENCY: Department of the Air Force.

ACTION: Notice.

In compliance with section 3506 (c)(2)(A) of the Paperwork Reduction Act of 1995, the Department of the Air Force announces the proposed reinstatement of a public information collection and seeks public comment on the provisions thereof. Comments are invited on: (a) Whether the proposed collection of information is necessary for the proper performance of the functions of the agency, including whether the information shall have practical utility; (b) the accuracy of the agency's estimate of the burden of the proposed information collection; and (d) ways to minimize the burden of the information collection on respondents, including through the use of automated collection techniques or other forms of information technology.

DATES: Consideration will be given to all comments received by April 5, 2004.

ADDRESSES: Written comments and recommendations on the proposed information collection should be sent to HQ AFSPC/LCMC, ATTN: SMSgt Jack L. Kretchek, 150 Vandenberg St Ste 1105, Peterson AFB, CO 80914-4470.

FOR FURTHER INFORMATION CONTACT: To request more information on this proposed information collection or to obtain a copy of the proposal and associated collection instruments, please write to the above address, or call HQ AFSPC/LCMC. Intercontinental Ballistic Missile Communications Mission Support Team, (719) 554-4057.

Title, Associated Form, and OMB Number: Intercontinental Ballistic Missile Hardened Intersite Cable Right-of-Way Landowner/Tenant Questionnaire, AF Form 3951, OMB Number 0701-0141.

Needs and Uses: The information collection requirement is used to report changes in ownership/lease information, conditions of missile cable route and associated appurtenances, and projected building/excavation projects. The information collected is used to ensure system integrity and to maintain a close contact public relations program with involved personnel and agencies.

Affected Public: Individuals or households; farms.

Number of Respondents: 4000.

Responses per Respondent: 1.

Average Burden per Response: 15 minutes.

Frequency: Biennially.

Summary of Information Collection: Respondents are landowners/tenants. This form collects updated landowner/tenant information as well as data on local property conditions which could adversely affect the Hardened Intersite Cable System (HICS) such as soil erosion, projected/building projects, excavation plans, etc. This information also aids in notifying landowners/tenants when HICS preventive or corrective maintenance becomes necessary to ensure uninterrupted Intercontinental Ballistic Missile command and control capability.

Pamela Fitzgerald,
Air Force Federal Register Liaison Officer.

[FR Doc. 04-2424 Filed 2-4-04; 8:45 am]

BILLING CODE 5001-05-P